NATIONAL ARCHIVES AND RECORDS ADMINISTRATION

[NARA-2018-004]

Advisory Committee on the Records of Congress

AGENCY: National Archives and Records Administration (NARA).

ACTION: Notice of Advisory Committee Meeting; Records of Congress.

SUMMARY: We are announcing a meeting of the Advisory Committee on the Records of Congress, in accordance with the Federal Advisory Committee Act. The committee advises NARA on the full range of programs, policies, and plans for the Center for Legislative Archives in the Office of Legislative Archives, Presidential Libraries, and Museum Services (LPM).

DATES: This meeting will be on December 6, 2017, from 10:00 a.m. to 11:30 a.m.

ADDRESSES: National Archives and Records Administration, 700 Pennsylvania Avenue NW., Archivist's Reception Room, Room 105, Washington, DC 20408.

FOR FURTHER INFORMATION CONTACT: Sharon Shaver, by mail at the Center for Legislative Archives (LL), National Archives Building, 700 Pennsylvania Avenue NW., Washington, DC 20408, by telephone at (202) 357-5350, or by email at sharon.shaver@nara.gov.

SUPPLEMENTARY INFORMATION: The meeting will be open to the public. However, due to space limitations and access procedures, you must submit the name and telephone number of individuals planning to attend to the Center for Legislative Archives no later than Friday, December 1, 2017. The Center will provide additional instructions for accessing the meeting's location.

Agenda

(1) Chair's opening remarks—Clerk of the U.S. House of Representatives

(2) Recognition of co-chair—Secretary of the U.S. Senate

(3) Recognition of the Archivist of the United States

(4) Approval of the minutes of the last meeting

(5) House Archivist's report

(6) Senate Archivist's report

(7) Center for Legislative Archives update

(8) Other current issues and new business

The meeting is open to the public.

Patrice Little Murray,
Committee Management Officer.

[FR Doc. 2017-25135 Filed 11-20-17; 8:45 am]

BILLING CODE 7515-01-P